DEPARTMENT OF TRANSPORTATION

National Highway Traffic Safety Administration

49 CFR Part 565

[Docket No. NHTSA-2005-21073]

Vehicle Identification Number Requirements; Technical Amendment

AGENCY: National Highway Traffic Safety Administration (NHTSA), Department of Transportation (DOT).

ACTION: Final rule; technical amendment.

SUMMARY: This document contains a technical amendment to the agency's Vehicle Identification Number (VIN) requirements. The amendment clarifies the definition of “model year” included in that regulation.

DATES: This rule is effective June 6, 2005.

FOR FURTHER INFORMATION CONTACT: Mr. Eric Stas, Office of the Chief Counsel (telephone (202) 366-2992) (fax (202) 366-3820); National Highway Traffic Safety Administration, 400 Seventh Street, SW., Washington, DC 20590.

SUPPLEMENTARY INFORMATION: Part 565 specifies the format, content, and physical requirements for the VIN system. The VIN system simplifies vehicle identification information retrieval and increases the accuracy and efficiency of vehicle recall campaigns. Section 565.3 provides definitions for the part and contains a definition for “model year.” One of the items of the information included in the vehicle's VIN is its model year.

Before NHTSA published a final rule establishing part 565 (48 FR 22567, May 19, 1983), the VIN requirements comprised Federal Motor Vehicle Safety Standard (FMVSS) No. 115. The final rule essentially moved the VIN requirements to Part 565 from FMVSS No. 115 without changing any substantive requirements of FMVSS No. 115.

However, the new Part 565 did contain some minor technical changes. One of the changes concerned the definition of “model year.” In its migration from FMVSS No. 115 to Part 565, the definition of “model year” was changed slightly, with the word “calendar” added to the text. Under the current definition, “model year” is defined as “the year used to designate a discrete vehicle model irrespective of the calendar year in which the vehicle was actually produced, so long as the actual period is less than 2 calendar years” (emphasis added). Prior to the change, the definition of “model year” read “the year used to designate a discrete vehicle model irrespective of the calendar year in which the vehicle was actually produced, so long as the actual period is less than 2 years” (emphasis added).

On November 19, 2002, we received a letter from Erika Jones, Esq., asking whether 49 CFR § 565.6(d)(1) permits a manufacturer to designate vehicles as belonging to a single model year, where the production period for such vehicles falls within three different calendar years but runs for less than 24 months in total. Relying on the “less than 2 calendar years” phrase of Section 565.3(j), we responded on February 4, 2003 to Ms. Jones' inquiry, concluding that Part 565 does not permit a manufacturer to designate a single model year where the production period falls over a period of three calendar years.

On January 7, 2005, we received a letter from General Motors (GM) asking us to reconsider our conclusion, as stated in our February 4, 2003 letter to Ms. Erika Jones. GM stated that our interpretation was contrary to actual, long-standing industry practices and discussed the practical impacts of our interpretation. GM further argued that the interpretation creates an unnecessary burden for vehicle manufacturers because it is common practice for a manufacturer to use a model year designation for the production of a vehicle that spans over three calendar years, particularly when a manufacturer introduces a substantial design change for a vehicle model. This practice allows the manufacturer to “obtain early experience with the performance of a new model and to correct problems, including potential safety defects, before a large volume of vehicles has been delivered to dealers and customers.”

After considering GM's arguments, we decided to rescind our February 4, 2003 interpretation. In a letter to GM dated February 16, 2005, we stated that we would interpret the term “model year” as a period not to exceed 24 months. We noted that in the preamble to the 1983 rule establishing Part 565, we had stated, “[t]he substantive requirements of Standard 115 are unchanged by this action.” That is, it was not the agency's intention to change the substantive requirements of the VIN regulation or to alter existing industry practices.

We now recognize that the addition of the term “calendar” created confusion. We are accordingly issuing this technical amendment to clarify the definition of “model year”, consistent with our February 16, 2005 interpretation.

This amendment is a technical one, and it does not impose or relax any substantive requirements or burdens on manufacturers. Therefore, NHTSA finds good cause that any notice and opportunity for comment on this technical amendment is not necessary.

Rulemaking Analyses and Notices

A. Executive Order 12866 and DOT Regulatory Policies and Procedures

This technical amendment has not been reviewed under Executive Order 12866. The technical amendment is not “significant” within the meaning of the Department of Transportation's regulatory policies and procedures. As discussed above, this is a technical amendment, and it will not result in any substantive impact.

B. Regulatory Flexibility Act

The Regulatory Flexibility Act (95 U.S.C. § 601 et seq., as amended by the Small Business Regulatory Enforcement Fairness Act (SBREFA) of 1996) provides that no regulatory flexibility analysis is required if the head of an agency certifies the rule will not have a significant economic impact on a substantial number of small entities. SEBRFA amended the Regulatory Flexibility Act to require Federal agencies to provide a statement of the factual basis for certifying that a rule will not have a significant economic impact on a substantial number of small entities.

NHTSA has considered the effects of this technical amendment under the Regulatory Flexibility Act. I hereby certify that it will not have a significant economic impact on a substantial number of small entities. Accordingly, the agency has not prepared a final regulatory flexibility analysis for this technical amendment. NHTSA makes these statements on the basis that, as a technical amendment that corrects or clarifies existing regulatory provisions, this rule will not impose any significant costs on anyone. The costs of the underlying rule were analyzed at the time of its initial issuing as a final rule. Therefore, it has not been necessary for NHTSA to conduct a regulatory evaluation or Regulatory Flexibility Analysis for this technical amendment.

At the time that the final rule for 49 CFR Part 565 was issued, we explained that the part did not impose any new costs or provide any savings. It was simply a migration of the agency's VIN requirements from FMVSS No. 115 to 49 CFR Part 565. We explained that this will “make it easier for motor vehicle manufacturers, many of which are small businesses, to understand and apply the agency's requirements for vehicle identification numbers. For these reasons, small businesses, small governmental organizations, and small organizations that purchase motor vehicles or rely on VINs for other recordkeeping or administrative matters, will not be affected by the rule.”

C. National Environmental Policy Act

NHTSA has analyzed this rulemaking action for the purposes of the National Environmental Policy Act. The agency has determined that implementation of this action will not have any significant impact on the quality of the human environment.

D. Executive Order 12612 (Federalism)

NHTSA has analyzed this rulemaking action under the principles and criteria in Executive Order 12612. The agency has determined that this technical amendment does not have sufficient Federalism implications to warrant the preparation of a Federalism Assessment. No State laws will be affected.

E. Executive Order 12988 (Civil Justice Reform)

Executive Order 12988 requires that agencies review proposed regulations and legislation and adhere to the following general requirements: (1) The agency's proposed legislation and regulations shall be reviewed by the agency to eliminate drafting errors and ambiguity; (2) The agency's proposed legislation and regulations shall be written to minimize litigation; and (3) The agency's proposed legislation and regulations shall provide a clear legal standard for affected conduct rather than a general standard, and shall promote simplification and burden reduction.

When promulgating a regulation, Executive Order 12988, specifically requires that the agency must make every reasonable effort to ensure that the regulation, as appropriate: (1) Specifies in clear language the preemptive effect; (2) specifies in clear language the effect on existing Federal law or regulation, including all provisions repealed, circumscribed, displaced, impaired, or modified; (3) provides a clear legal standard for affected conduct rather than a general standard, while promoting simplification and burden reduction; (4) specifies in clear language the retroactive effect; (5) specifies whether administrative proceedings are to be required before parties may file suit in court; (6) explicitly or implicitly defines key terms; and (7) addresses other important issues affecting clarity and general draftsmanship of regulations.

NHTSA has reviewed this technical amendment according to the general requirements and the specific requirements for regulations set forth in Executive Order 12988. This technical amendment simply clarifies the definition of the term “model year” in 49 CFR Part 565. This change does not result in any preemptive effect and does not have a retroactive effect. A petition for reconsideration or other administrative proceeding is not required before parties may file suit in court.

List of Subjects in 49 CFR Part 565

Motor vehicle safety, Reporting and recordkeeping requirements.

For the reasons stated above, NHTSA amends 49 CFR part 565 as follows:

PART 565—VEHICLE IDENTIFICATION NUMBER REQUIREMENTS

1. The authority citation continues to read as follows:

Authority: 49 U.S.C. 322, 30111, 30115, 30117, 30141, 30146, 30166, and 30168; delegation of authority at 49 CFR 1.50.

2. Section 565.3 is amended by revising paragraph (j) to read as follows:

§ 565.3 Definitions.

* * * * *

(j) Model Year means the year used to designate a discrete vehicle model, irrespective of the calendar year in which the vehicle was actually produced, provided that the production period does not exceed 24 months.

* * * * *

Issued: May 3, 2005.
Stephen R. Kratzke,
Associate Administrator for Rulemaking.

[FR Doc. 05-9140 Filed 5-5-05; 8:45 am]

BILLING CODE 4910-59-P